DEPARTMENT OF COMMERCE

National Oceanic and Atmospheric Administration

[RTID 0648-XF010]

Endangered Species; File No. 28467

AGENCY: National Marine Fisheries Service (NMFS), National Oceanic and Atmospheric Administration (NOAA), Commerce.

ACTION: Notice; issuance of permit.

SUMMARY: Notice is hereby given that the University of North Carolina Wilmington (Responsible Party: Frederick Scharf, Ph.D.) has been issued a permit to take Atlantic sturgeon (Acipenser oxyrinchus) and shortnose sturgeon (A. brevirostrum) for purposes of scientific research.

ADDRESSES: The permit and related documents are available for review upon written request via email to NMFS.Pr1Comments@noaa.gov.

FOR FURTHER INFORMATION CONTACT: Erin Markin, Ph.D., or Shasta McClenahan, Ph.D., (301) 427-8401.

SUPPLEMENTARY INFORMATION: On April 14, 2025, notice was published in the Federal Register (90 FR 15563) that a request for a scientific research permit to take Atlantic and shortnose sturgeon had been submitted by the above-named organization. The requested permit has been issued under the authority of the Endangered Species Act of 1973, as amended (ESA; 16 U.S.C. 1531 et seq.) and the regulations governing the taking, importing, and exporting of endangered and threatened species (50 CFR parts 222-226).

The permit was issued on June 17, 2025, and authorizes the applicant to continue research on Atlantic and shortnose sturgeon to determine their abundance, distribution, habitat use, and migration dynamics in the coastal rivers and estuaries of North Carolina basins (Cape Fear, Neuse, Tar/Pamlico, Roanoke/Chowan). Atlantic and shortnose sturgeon may be captured using gill nets, trammel nets, or trawls, measured, weighed, tagged (PIT, Floy, T-bar), biologically sampled (tissue), and photographed/videoed. A subset of Atlantic sturgeon may be anesthetized and receive an internal acoustic tag. In addition, these same research procedures may be conducted on Atlantic sturgeon captured under other authority in the Frying Pan Shoals area of North Carolina to determine habitat use. Early life stages of Atlantic sturgeon may be lethally collected. The permit is valid through June 30, 2035.

Issuance of this permit, as required by the ESA, was based on a finding that such permit (1) was applied for in good faith, (2) will not operate to the disadvantage of such endangered or threatened species, and (3) is consistent with the purposes and policies set forth in section 2 of the ESA.

Dated: June 23, 2025.
Shannon Bettridge,
Chief, Marine Mammal and Sea Turtle Conservation Division, Office of Protected Resources, National Marine Fisheries Service.

[FR Doc. 2025-11715 Filed 6-24-25; 8:45 am]

BILLING CODE 3510-22-P